DEPARTMENT OF COMMERCE

National Oceanic and Atmospheric Administration

Guidance for Fiscal Year 2001 Coral Reef Management Funding

AGENCY: National Oceanic and Atmospheric Administration, Department of Commerce.

ACTION: Announcement of funding opportunity for financial assistance for Island coral reef conservation and management cooperative agreements.

SUMMARY: The purpose of this notice is to advise the public that the National Oceanic and Atmospheric Administration (NOAA) and the U.S. Department of the Interior (DOI) are soliciting proposals from the U.S. Flag Island jurisdiction of American Samoa, the Commonwealth of the Northern Mariana Islands, Guam, Hawaii, Puerto Rico, and the U.S. Virgin Islands for the purpose of coral reef conservation and management.

DATES: NOAA and DOI must receive Applications for cooperative agreements according to the following schedule:

Draft applications received by NOAA and DOI: June 29, 2001

NOAA and DOI comments back to Islands: July 20, 2001

Final complete application received by NOAA and DOI: August 3, 2001

Cooperative agreements awarded on or before: October 1, 2001

ADDRESSES: Applications should be sent to: John King, Acting Chief, CPD/OCRM, N/ORM-3, National Ocean Service, 1305 East-West Highway, Silver Spring, MD 20910, and Karen Koltes, Coral Reef Program Manager, Office of Insular Affairs, MS 4328 Department of the Interior, Washington, DC 20240.

FOR FURTHER INFORMATION CONTACT: For NOAA: Bill Millhouser, Pacific Regional Manager, CPD/OCRM, N-ORM-3, National Ocean Service, 1305 East-West Highway, Silver Spring, MD 20910; 301-713-3155 x 189; Internet: bill.millhouser@noaa.gov.

For DOI: Karen Koltes, Coral Reef Program Manager, Office of Insular Affairs, MS 4328, Department of the Interior, Washington, DC 20240; 202-208-5345; Internet: karen_koltes@ios.doi.gov.

SUPPLEMENTARY INFORMATION: (1) Program Authorities: Specific authority for this Announcement is found in 16 U.S.C. 1442, Executive Order 13089 (June 11, 1998), Coral Reef Protection, for NOAA.

(2) Catalog of Federal Domestic Assistance Numbers: 11.419 for NOAA Coastal Zone Management Program Administration.

(3) Program Description: This notice provides guidance for applying for funding appropriated by Congress to the National Oceanic and Atmospheric Administration (NOAA) and the Department of the Interior (DOI) in Fiscal Year (FY) 2001 to support the conservation and management of coral reefs and associated fisheries by the island jurisdictions of Puerto Rico, the U.S. Virgin Islands, Hawaii, Guam, the Commonwealth of the Northern Mariana Islands, and American Samoa.

Congress appropriated $26,941,000 in FY 2001 funding to NOAA in support of the Administration's budget request for Coral Reef Conservation activities. The Department of the Interior Office of Insular Affairs (OIA) also received funding in FY 2001 to enhance coral reef protection and management.

Among the top coral reef conservation priorities for both agencies is support for State and Territorial coral reef conservation activities as envisioned in the 1999, U.S. All Islands Coral Reef Initiative Strategy, and subsequent locally generated management strategies. NOAA and DOI will jointly award $2,435,000 in FY 2001 to support priority island coral reef ecosystem conservation efforts. Of this total, NOAA's National Centers for Coastal Ocean Science (NCCOS) will award $350,000 to support Monitoring and Assessment cooperative agreements with the Islands. As was the case last year, NCCOS will award a separate Monitoring and Assessment award to each jurisdiction. NOAA's Office of Ocean and Coastal Resource Management (OCRM), the National Marine Fisheries Service (NMFS) Office of Protected Resources (PR), and Office of Insular Affairs (OIA/DOI) will provide an additional $1,885,000 in funding for cooperative agreements to support Island coral reef and coral reef fishery management and conservation activities as listed below.

Program purpose | Agency | Amount (in millions)
Coral reef management | OCRM OIA/DOI | $1.200 .350
Coral reef fishery management | PR/NMFS | .335
Total |  | 1.885

OCRM, PR/NMFS and OIA/DOI will coordinate their funding such that each Island will need to develop only one coral reef and coral reef fishery management application. The Federal agencies will coordinate their review of both cooperative agreements to ensure comparability and continuity between the two processes. It is anticipated OCRM will make awards to three of the six jurisdictions and that DOI will make awards to the remaining three jurisdictions.

To allow each Island the ability to continue projects initiated with last year's awards, each jurisdiction is eligible to receive an award ranging from a minimum of $225,000 to a maximum of approximately $400,000. To be eligible for the award, the jurisdiction must have made reasonable progress in completing tasks under their FY 1999 and FY 2000 coral management awards, as evidenced in the required performance and financial reports.

(4) Funding Availability: Funding is contingent upon the availability of Federal appropriations. It is estimated that approximately $1,885,000 in FY 2001 funding is available for Coral Reef and Coral Reef Fishery Management cooperative agreements. Support in outyears after FY 2001 is contingent upon the availability of funds and the requirements of the agency supporting the project.

(5) Matching Requirements: None.

(6) Type of Funding Instrument: Cooperative agreements.

(7) Eligibility Criteria: Eligible applicants are government jurisdictions of American Samoa, the Commonwealth of Northern Mariana Islands, Guam, Hawaii, Puerto Rico, and the U.S. Virgin Islands.

(8) Award Period: Full Proposals should cover a project period of 12 to 18 months with an anticipated start date of October 1, 2001.

(9) Indirect Costs: If indirect costs are proposed, the total dollar amount of the indirect costs proposed in an application must not exceed the indirect cost rate negotiated and approved by a cognizant Federal agency prior to the proposed effective date of the award.

(10) Application Forms: Applications should reflect the strategy developed in the 1999, U.S. All Islands Coral Reef Initiative Strategy, as modified by the events and activities of the last three years, and support the U.S. Coral Reef Task Force National Action Plan to Conserve Coral Reefs. In addition, proposed activities should be coordinated, where appropriate, with ongoing and proposed NOAA mapping, monitoring, and fishery management initiatives, and DOI Fish and Wildlife Service and National Park Service coral reef activities.

States and territories must consult with all relevant local governmental and non-governmental entities involved in coral reef activities in developing the application. Local government agencies that must be consulted include coastal zone management, water quality, and wildlife and/or marine resource agencies.

Applicants should also include in their award, anticipated travel costs associated with attendance and participation at U.S. Coral Reef Task Force and other relevant meetings and conferences. In the past, NOAA and/or DOI have funded much of this travel on an invitational basis. However, Federal staff and travel funding limitations will not allow for the continuation of such arrangements. Applicants may submit applications covering up to an eighteen-month period, and must meet all applicable DOC or DOI grant requirements, and submit, with the final application package, all required Federal financial assistance forms. One copy of the jurisdiction's award application should be submitted to OCRM and one copy to OIA.

(a) Application Format. There is a need for improved accountability relative to the objectives established for this program, as well as under the National Action Plan. Therefore, to track each applicant's progress in managing its coral reef and fishery resources this year's applications should be structured as follows:

First, in developing the proposal, the applicant should organize proposed tasks into the following ten (10) categories, which are based on those found in the National Action Plan:

(i) Mapping, Aerial Photography, and Digital/Satellite Imagery for reef conservation, e.g. developing benthic habitat maps or other Geographic Information System (GIS) data layers, etc

(ii) Monitoring and Assessment of coral reefs or reef resources; e.g. baseline characterizations of reef ecosystems, workshops to standardize methods, database system development, purchase of eequipment, training, etc (Note: most, if not all of proposed monitoring projects, should be funded out of the NCCOS Coral Reef Monitoring Award.

(iii) Research, e.g., nutrient input modeling, coral recruitment studies, coral culturing, etc.

(iv) Socio-economic and Resource Valuation, e.g., community surveys, economic valuations, alternatiave income generation workshops, etc.

(v) Marine Protected Areas and associated management activities, e.g., Marine Protected Area (MPA) or Marine Management Area (MMA) planning and implementation, peresonnel training, equipment procurement, signage, enforcement, etc.

(vi) Coral Reef Fisheries Management and Enforcement, e.g., resources assessments, colleciton of fishery information, im,plementation of fishery regulations and reserves, enforcement personnel training and equipment procurement, etc.

(vii) Reducing Habitat Destruction, e.g., coastal zone management, vessel grounding prevention and management, mooring buoy installation, etc.

(viii) Reducing Pollution:

• Oil-spill prevention and response, e.g., developing response plans, personnel training, interagency coordination, etc.

• Marine debris prevention and removal, e.g., developing prevention policies, collection and disposal of debris, etc

• Reducing inspects from land-based watershed pollution source, e.g., developing prevention policies, collection and disposal of debris, etc

• Reducing impacts from land-based/watershed pollution source, e.g., BMP planning and implementation, watershed restoration projects, etc.

• Invasive alien species management, e.g., policy development, mitigation projects, etc.

(ix) Coral Reef Restoration, e.g., damage mitigation, coral transplantation, monitoring of restoration sites, etc.

(x) Public Education and Outreach, e.g., brochures and other informational materials, public meetings and workshops, etc.

Second, for each category in which a project is proposed, the applicant should include an introduction that describes: The status and magnitude of the issues in your jurisdiction; recent actions undertaken to address the issues, with a focus on federally-funded tasks; and the jurisdiction's strategy to address critical needs over the medium term (the next two to three years). This introduction should not exceed one page for each category project.

Finally, the description of each proposed task should include:

• Clear identification of the work to be completed, who will perform the work, and how the project fits into the jurisdiction's strategy for addressing the larger issue;

• How the project coordinates with relevant local governmental and non-governmental agencies and, if applicable, NOAA or DOI regional activities;

• Summary budget;

• Task timetable with interim benchmarks and clearly-defined work products; and,

• Project priority as compared to all other proposed projects.

(b) Special Guidance for Coral Reef Fishery Management Proposals Funded by the National Marine Fisheries Service (NMFS). The mandate of NMFS is to build sustainable fisheries, recover protected species, and sustain healthy habitats for these species.

In FY 2001, NMFS has identified $335,000 to fund priority Island coral reef projects in these substantive areas. Examples of eligible projects include:

• Assessment and monitoring of fish and fishery resources, collection of fishery information;

• Analysis of fishery impacts on reefs and support for the implementation of fishery gear restrictions or other priority regulations;

• Development of fishery reserves;

• Activities to improve management of ornamental reef species for the aquarium industry;

• Hiring or training of enforcement officers; and,

• Outreach and education on fishery and endangered species issues.

Proposals for coral reef fisheries management projects should range from $40,000 to $60,000 per jurisdiction.

(11) Evaluation Criteria: The objective of this funding is to support systematic coral reef management and conservation programs in the U.S. Flag Islands aimed at maintaining and/or improving the health of coral reef ecosystems. OCRM, NMFS, and DOI will allocate the $1,885,000 designated as Coral Reef Management and Coral Reef Fishery Management funds based on of the following equally weighted evaluation criteria:

(a) The need for coral reef management activities in the jurisdiction;

(b) The quality of the application submitted; and,

(c) The past performance of the jurisdiction in completing work in FY 1999 and FY 2000 NOAA and DOI coral awards.

(12) Selection Procedures: A Federal agency team of representatives from OCRM, NMFS, and DOI will make the final funding allocations for each jurisdiction. The Federal agency team will review the draft applications and will provide comments to each applicant. These comments will include input from individuals with coral reef and fisheries management experience. The Federal agency team will then review the final complete applications and make final decisions on the funding to be awarded to each jurisdiction based on the score that each application receives as a result of the application of the criteria listed in subsection (11) above.

If one or more jurisdictions are ineligible to receive an award, NOAA and DOI will consult with the individual members of the All Islands Group on the use of those residual funds. NOAA and DOI will work with each jurisdiction to ensure the greatest degree of success in meeting that island's objectives.

Other Requirements

(1) Federal Policies and Procedures—Recipients and sub recipients are subject to all Federal laws and Federal and DOC policies, regulations and procedures applicable to Federal financial assistance awards. Applicants must use the standard NOAA grants application package, available from OCRM or the NOAA Grants Management Division, with the exception of draft applications, which should, at a minimum, include basic information on task descriptions and costs. Final complete applications must meet all requirements contained in this notice.

(2) Past Performance—Unsatisfactory performance under prior Federal awards may result in an application not being considered for funding.

(3) Pre-award Activities—If applicants incur any costs prior to an award being made, they do so at their own risk of not being reimbursed by the Government. Notwithstanding any verbal or written assurance that may have been received, there is no obligation on the part of DOC to cover pre-award costs.

(4) No Obligation for Future Funding—If an application is selected for funding, DOC has no obligation to provide any additional future funding in connection with that award. Renewal of an award to increase funding or extend the period of performance is at the total discretion of DOC.

(5) Delinquent Federal Debts—No award of Federal funds shall be made to an applicant who has an outstanding delinquent Federal debt until either:

(a) The delinquent account is paid in full,

(b) A negotiated repayment schedule is established and at least one payment is received, or

(c) Other arrangements satisfactory to DOC are made.

(6) Primary Applicant Certifications—All primary applicants must submit a completed form CD-511, “Certifications Regarding Debarment, Suspension and Other Responsibility Matters; Drug-Free Workplace Requirements and Lobbying,” and the following explanations hereby provided:

(a) Nonprocurement Debarment and Suspension—Prospective participants (as defined at 15 CFR part 26, section 105) are subject to 15 CFR part 26, “Nonprocurement Debarment and Suspension” and the related section of the certification form prescribed above applies;

(b) Drug Free Workplace—Grantees (as defined at 15 CFR part 26, section 605) are subject to 15 CFR part 26, subpart F, “Government Requirements for Drug-Free Workplace (Cooperative agreements),” and the related section of certification form prescribed above applies;

(c) Anti-Lobbying—Persons (as defined at 15 CFR part 26, section 105) are subject to the lobbying provisions of 31 U.S.C. 1352, “Limitations on use of appropriated funds to influence certain Federal contracting and financial transactions,” and the lobbying section of the certification form prescribed above applies to applications/bids for cooperative agreements, cooperative agreements, and contracts for more than $100,000, and loans and loan guarantees for more than $150,000, or the single family maximum mortgage limit for affected programs, whichever is greater; and

(d) Anti-Lobbying Disclosures—Any applicant that has paid or will pay for lobbying using any funds must submit an SF-LLL, “Disclosure of Lobbying Activities,” as required under 15 CFR part 28, appendix B.

(7) Lower Tier Certifications—Recipients shall require applicants/bidders for sub awards, contracts, subcontracts, or other lower tier covered transactions at any tier under the award to submit, if applicable, a completed Form CD-512, “Certifications Regarding Debarment, Suspension, Ineligibility and Voluntary Exclusion-Lower Tier Covered Transactions and Lobbying” and disclosure form SF-LLL, “Disclosure of Lobbying Activities.” Form CD-512 is intended for the use of recipients and should not be transmitted to DOC. SF-LLL submitted by any tier recipient or sub recipient should be submitted to DOC in accordance with the instructions contained in the award document.

(8) False Statements—A false statement on an application is grounds for denial or termination of funds and grounds for possible punishment by a fine or imprisonment as provided in 18 U.S.C. 1001.

(9) This notice has been determined to be not significant for purposes of Executive Order 12866.

(10) This notice does not involve collection-of-information requirements subject to the Paperwork Reduction Act.

(11) This rule does not contain policies with Federalism impacts as that term is defined in Executive Order 13132.

Dated: June 21, 2001.
Ted Lillestolen,
Deputy Assistant Administrator for Ocean Services and Coastal Zone Management, National Oceanic and Atmospheric Administration.

[FR Doc. 01-16228 Filed 6-27-01; 8:45 am]

BILLING CODE 3510-08-M